DEPARTMENT OF AGRICULTURE

Commodity Credit Corporation

Secretary of Agriculture's Special Cotton Import Quota Announcements Numbers 21 Through 26 and Numbers 1 Through 10

AGENCY: Commodity Credit Corporation, USDA.

ACTION: Notice.

SUMMARY: Sixteen special import quotas for upland cotton are established in accordance with section 136(b) of the Federal Agriculture Improvement and Reform Act of 1996 (the 1996 Act) under Presidential Proclamation 6301 of June 7, 1991, and Presidential Proclamation 6948 of October 29, 1996. The quotas are referenced as the Commodity Credit Corporation Special Cotton Import Quota Announcement Numbers 21 through 26 and Special Cotton Import Quota Announcement Numbers 1 through 10 and are set forth in subheadings 9903.52.21 through 9903.52.26 and subheadings 9903.52.01 through 9903.52.10, subchapter III, chapter 99 of the Harmonized Tariff Schedule of the United States (HTS).

DATES: Each of the special quotas is subject to an established date and applies to upland cotton purchased not later than 90 days from the established date and entered into the United States not later than 180 days from the established date. Dates applicable to each individual special import quota are contained in a table following this notice.

FOR FURTHER INFORMATION CONTACT: Scott O. Sanford, Farm Service Agency, United States Department of Agriculture, STOP 0515, 1400 Independence Avenue, SW., Washington, DC 20013-0515 or call (202) 720-3392.

SUPPLEMENTARY INFORMATION: The 1996 Act requires that a special import quota for upland cotton be determined and announced immediately if, for any consecutive 10-week period, the Friday through Thursday average price quotation for the lowest-priced U.S. growth, as quoted for Middling 1-3/32 inch cotton, C.I.F. northern Europe (U.S. Northern Europe price), adjusted for the value of any cotton user marketing certificates issued, exceeds the Northern Europe price by more than 3.00 cents per pound. This condition was met for 16 consecutive 10-week periods ending October 28, 1999. Therefore, quotas referenced as Special Cotton Import Quota Announcement Numbers 21 through 26 and Special Cotton Import Quota Announcement Numbers 1 through 10 are established subject to the following dates and quantities.

Each special import quota identifies a quantity of imports that is not subject to the over-quota tariff rate of a tariff-rate quota. The quota is not divided by staple length or by country of origin. The quota does not affect existing tariff rates or phytosanitary regulations. The quota does not apply to extra long staple cotton.

Authority: Sec. 136, P.L. 104-127 and U.S. Note 6(a), Subchapter III, Chapter 99 of the HTS.

Signed at Washington, D.C., on March 17, 2000.
Parks Shackelford,
Acting Executive Vice President, Commodity Credit Corporation.

Secretary of Agriculture's cotton import quota announcement | HTS subheading | News release date | Quota start date | 90-day purchase date | 180-day import date | Quota amount (kilograms) | 3-month consumption base period
Number 21 | 9903.52.21 | 7/15/99 | 7/22/99 | 10/19/99 | 1/17/00 | 42,388,357 | March-May 1999.
Number 22 | 9903.52.22 | 7/22/99 | 7/29/99 | 10/26/99 | 1/24/00 | 42,388,357 | March-May 1999.
Number 23 | 9903.52.23 | 7/29/99 | 8/05/99 | 11/02/99 | 1/31/00 | 42,645,766 | April-June 1999.
Number 24 | 9903.52.24 | 8/05/99 | 8/12/99 | 11/09/99 | 2/07/00 | 42,645,766 | April-June 1999.
Number 25 | 9903.52.25 | 8/12/99 | 8/19/99 | 11/16/99 | 2/14/00 | 42,645,766 | April-June 1999.
Number 26 | 9903.52.26 | 8/19/99 | 8/26/99 | 11/23/99 | 2/21/00 | 42,645,766 | April-June 1999.
Number 1 | 9903.52.01 | 8/26/99 | 9/02/99 | 11/30/99 | 2/28/00 | 42,282,225 | May-July 1999.
Number 2 | 9903.52.02 | 9/02/99 | 9/09/99 | 12/07/99 | 3/06/00 | 42,282,225 | May-July 1999.
Number 3 | 9903.52.03 | 9/09/99 | 9/16/99 | 12/14/99 | 3/13/00 | 42,282,225 | May-July 1999.
Number 4 | 9903.52.04 | 9/16/99 | 9/23/99 | 12/21/99 | 3/20/00 | 42,282,225 | May-July 1999.
Number 5 | 9903.52.05 | 9/23/99 | 9/30/99 | 12/28/99 | 3/27/00 | 42,282,225 | May-July 1999.
Number 6 | 9903.52.06 | 9/30/99 | 10/07/99 | 1/04/00 | 4/03/00 | 41,677,786 | June-August 1999.
Number 7 | 9903.52.07 | 10/07/99 | 10/14/99 | 1/11/00 | 4/10/00 | 41,677,786 | June-August 1999.
Number 8 | 9903.52.08 | 10/14/99 | 10/21/99 | 1/18/00 | 4/17/00 | 41,677,786 | June-August 1999.
Number 9 | 9903.52.09 | 10/21/99 | 10/28/99 | 1/25/00 | 4/24/00 | 41,677,786 | June-August 1999.
Number 10 | 9903.52.10 | 10/28/99 | 11/04/99 | 2/01/00 | 5/01/00 | 40,830,552 | July-September 1999.

[FR Doc. 00-7277 Filed 3-23-00; 8:45 am]

BILLING CODE 3410-05-P